ENVIRONMENTAL PROTECTION AGENCY

40 CFR Part 62

[EPA-R08-OAR-2017-0171; FRL-9965-78-Region 8]

Approval and Promulgation of State Plans for Designated Facilities and Pollutants: Colorado, Montana, North Dakota, South Dakota, Utah, and Wyoming; Negative Declarations

AGENCY: Environmental Protection Agency (EPA).

ACTION: Withdrawal of direct final rule.

SUMMARY: The Environmental Protection Agency (EPA) is withdrawing a direct final rule published on June 5, 2017, because one adverse comment was received during the public comment period. The withdrawn rule pertained to the EPA's receipt and approval of 20 negative declaration letters from EPA Region 8 states. These letters of negative declaration are statements by the state certifying the absence of designated facilities of a certain solid waste incinerator category or class within its jurisdiction, which obviates the statutory requirement for the state to develop a Clean Air Act (CAA) section 111(d)/129 State plan for the regulation of designated facilities of that particular category or class.

DATES: Effective August 3, 2017, the direct final rule published at 82 FR 25734, June 5, 2017 is withdrawn.

FOR FURTHER INFORMATION CONTACT: Gregory Lohrke, (303) 312-6396, lohrke.gregory@epa.gov.

SUPPLEMENTARY INFORMATION: On June 5, 2017, the EPA published a direct final rule (82 FR 25734) approving several negative declarations submitted by Region 8 states, certifying the absence of designated facilities regulated under various Emissions Guidelines found in 40 CFR part 60. The promulgation of each negative declaration was to serve in lieu of a CAA section 111(d)/129 State plan, given the declared absence of facilities that would require such a State plan. The direct final rule was published without prior proposal because the EPA anticipated no adverse comments on a noncontroversial action. The direct final rule stated that if the action received adverse comment on or before July 5, 2017, the EPA would publish a timely withdrawal in the Federal Register. The EPA received one adverse comment and is accordingly withdrawing the direct final rule. In a separate, subsequent final rulemaking action, the EPA will address the comment received.

List of Subjects in 40 CFR Part 62

Environmental protection, Administrative practice and procedure, Air pollution control, Commercial industrial solid waste incineration, Intergovernmental relations, Municipal solid waste combustion, Other solid waste incineration, Reporting and recordkeeping requirements.

Dated: July 28, 2017.
Debra H. Thomas,
Acting Regional Administrator, Region 8.

Accordingly, the amendments to 40 CFR part 62, subpart G, subpart BB, subpart JJ, subpart QQ, subpart TT, and subpart ZZ, published in the Federal Register on June 5, 2017 (82 FR 25734), are withdrawn as of August 3, 2017.

[FR Doc. 2017-16492 Filed 8-3-17; 8:45 am]

BILLING CODE 6560-50-P